DEPARTMENT OF HOMELAND SECURITY

Federal Emergency Management Agency

Agency Information Collection Activities: Proposed Collection; Comment Request

AGENCY: Federal Emergency Management Agency, Department of Homeland Security.

ACTION: Notice and request for comments.

SUMMARY: The Federal Emergency Management Agency, as part of its continuing effort to reduce paperwork and respondent burden, invites the general public and other Federal agencies to take this opportunity to comment on a proposed continuing information collection. In accordance with the Paperwork Reduction Act of 1995, this notice seeks comments concerning Excess Federal Real Property Program application.

SUPPLEMENTARY INFORMATION: The purpose of the Excess Federal Real Property Program is to convey at no cost to State and local governments excess Federal real property that the Federal Emergency Management Agency (FEMA) determines can be used for emergency management response purposes in perpetuity. The Federal Property and Administrative Services Act of 1949, as amended, 40 U.S.C. 553, (formerly 40 U.S.C. 484(p)), authorizes the Administrator of the General Services Administration (GSA) to transfer or convey (without monetary consideration) Federal real and related surplus property needed for emergency management response purposes, including fire rescue services. GSA's implementing regulations are contained in 41 CFR part 1201-47.

Collection of Information

Title: Excess Federal Real Property Program Application.

Type of Information Collection: Extension of a currently approved collection.

OMB Number: 1660-0080.

Form Number: FF 60-25.

Abstract: GSA provides announcements to FEMA and to State, local and Tribal governments concerning available Federal surplus real property for emergency management response use purposes including fire and rescue services. An applicant must notify the disposal agency such as GSA Regional and Headquarters offices, the Department of Defense (DOD) Base Realignment Closure (BRAC) Offices, and FEMA Regional and Headquarters offices of its intent to acquire the property. The notification should occur within 20 days after notification of property availability. States, the District of Columbia, any territory or possession of the United States, or any political subdivision or instrumentality thereof, may apply for the transfer or conveyance of surplus real property for emergency management response use purposes. An applicant must formally submit a completed Excess Federal Real Property Program application including supporting documentation to FEMA. After receiving this information, FEMA will then determine if the requested excess Federal real property is required for emergency management response use. The application processes designed to ensure that the applicant's proposed use of the Federal real property is for emergency management use as an integral part of applicable State, local and Tribal government plans. The completed application form is designed to ensure that the applicant conforms to GSA and DOD regulatory conditions.

Affected Public: State, local or Tribal government.

Estimated Total Annual Burden Hours: 3.

Annual Burden Hours
Project/activity (survey, form(s), focus group, worksheet, etc.) | Number of respondents | Frequency of responses | Burden hours per respondent | Annual responses | Total annual burden hours
| (A) | (B) | (C) | (A×B) | (A×B×C)
Excess Federal Real Property Application | 1 | 1 | 3 | 1 | 3
Total | 1 | 1 | 3 | 1 | 3

Estimated Cost: $150.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments must be submitted on or before November 17, 2006.

ADDRESSES: Interested persons should submit written comments to Chief, Records Management and Privacy Section, Information Resources Management Branch, Information Technology Services Division, Federal Emergency Management Agency, 500 C Street, SW., Room 316, Washington, DC 20472.

FOR FURTHER INFORMATION CONTACT: Contact Paul Tertell, Branch Chief, Real Property Facilities Management, Federal Emergency Management Agency, Department of Homeland Security, Room 505 C St., SW., Washington, DC 20472 or at 202-646-3935 for additional information. You may contact the Records Management Branch for copies of the proposed collection of information at facsimile number (202) 646-3347 or e-mail address: FEMA-Information-Collections@dhs.gov.

Dated: September 6, 2006.
John A. Sharetts-Sullivan,
Chief, Records Management & Privacy Section, Information Resource Management Branch, Information Technology Services Division.

[FR Doc. E6-15463 Filed 9-15-06; 8:45 am]

BILLING CODE 9110-07-P